DEPARTMENT OF COMMERCE

National Oceanic and Atmospheric Administration

[RTID 0648-XX051]

Magnuson-Stevens Act Provisions; Fisheries of the Northeastern United States; Atlantic Herring Fishery; Approved Industry-Funded Monitoring Service Providers; Correction

AGENCY: National Marine Fisheries Service (NMFS), National Oceanic and Atmospheric Administration (NOAA), Commerce.

ACTION: Notice of approved industry-funded monitoring service providers; correction.

SUMMARY: This action corrects an error in the notice of approved industry-funded monitoring service providers published in the Federal Register on April 14, 2020.

ADDRESSES: The list of NMFS-approved industry-funded monitoring service providers is available at: https://www.fisheries.noaa.gov/new-england-mid-atlantic/fisheries-observers/industry-funded-monitoring-northeast, or by sending a written request to: 55 Great Republic Drive, Gloucester, MA 01930, Attn: Maria Fenton.

FOR FURTHER INFORMATION CONTACT: Maria Fenton, Fishery Management Specialist, (978) 281-9196.

SUPPLEMENTARY INFORMATION: On April 14, 2020, we published a notice announcing the names of approved industry-funded monitoring (IFM) service providers for the Atlantic herring fishery (85 FR 20677). That notice erroneously omitted “industry-funded observer” from the list of IFM services that East West Technical Services LLC is approved to provide.

Correction

In the Federal Register of April 14, 2020, in FR Doc. 2020-07859, on page 20678, Table 1, is corrected to read as follows:

Table 1—Companies Approved to Provide IFM Services to Atlantic Herring Vessels during IFM Years 2020-2021
Provider | Approved IFM service(s) | Contact information
Fathom Resources, LLC | Industry-funded observer, at-sea monitoring, portside sampling | 855 Aquidneck Ave., Unit 9, Middletown, RI 02842.
|  | 508-990-0997 (p); 508-991-7372 (f).
|  | www.fathomresources.com.
A.I.S., Inc | Industry-funded observer, at-sea monitoring, portside sampling | 540 Hawthorn St, North Dartmouth, MA 02747.
|  | 508-990-9054 (p); 508-990-9055 (f).
|  | www.aisobservers.com.
East West Technical Services LLC | Industry-funded observer, at-sea monitoring, portside sampling | P.O. Box 643864, Vero Beach, FL 32964. 860-910-4957 (p); 860-223-6005 (f).
|  | www.ewts.com.
Saltwater Inc |  | 733 N St, Anchorage, AK 99501.
|  | 907-276-3241 (p); 907-258-5999 (f)
|  | www.saltwaterinc.com.

Authority: 16 U.S.C. 1801 et seq.

Dated: April 17, 2020.
Hélène M.N. Scalliet,
Acting Director, Office of Sustainable Fisheries, National Marine Fisheries Service.

[FR Doc. 2020-08575 Filed 4-22-20; 8:45 am]

BILLING CODE 3510-22-P